DEPARTMENT OF THE INTERIOR

Bureau of Land Management

[IDI-32319]

Notice of Application for Withdrawal Extension and Opportunity for Public Meeting, Idaho

AGENCY: Bureau of Land Management, Interior.

ACTION: Notice.

SUMMARY: The United States Forest Service (USFS) has filed an application with the Bureau of Land Management (BLM) requesting that the Assistant Secretary of the Interior for Land and Minerals Management extend the duration of Public Land Order (PLO) No. 7306 for an additional 20-year term. PLO No. 7306 withdrew 3,805.87 acres of National Forest System land from mining to protect the Howell Canyon Recreation Complex. The withdrawal created by PLO No. 7306 will expire on January 1, 2018, unless it is extended. The land will remain open to all allowable uses other than the mining laws. This notice also gives an opportunity for the public to comment and to request a public meeting on the withdrawal extension application.

DATES: Comments and public meeting requests must be received by December 1, 2015.

ADDRESSES: Comments and meeting requests should be sent to the Idaho State Director, BLM, 1387 S. Vinnell Way, Boise, Idaho 83709.

FOR FURTHER INFORMATION CONTACT: Jeff Cartwright, BLM Idaho State Office 208-373-3885 or Sherry Stokes-Wood, Lands, USFS Intermountain Regional Office 801-625-5800. Persons who use a telecommunications device for the deaf (TDD) may call the Federal Information Relay Service (FIRS) at 1-800-877-8339 to contact either of the above individuals. The FIRS is available 24 hours a day, 7 days a week. You will receive a reply during normal business hours.

SUPPLEMENTARY INFORMATION: The USFS has filed an application requesting that the Secretary of the Interior extend the withdrawal created by PLO No. 7306 for an additional 20-year term, subject to valid existing rights. PLO No. 7306 (63 FR 109 (1998)) withdrew 3,805.87 acres of National Forest System Land in the Sawtooth National Forest, Cassia County, Idaho from location and entry under the United States mining laws, but not from the general land laws or leasing under the mineral leasing laws. The purpose of the requested withdrawal extension is to continue to protect the Howell Canyon Recreation Complex investments made by the USFS and its permittees, and to preserve a Research Natural Area.

The use of a right-of-way, interagency agreement, or cooperative agreement would not adequately protect the land from nondiscretionary uses, which could result in a permanent loss of significant values and capital investments.

There are no suitable alternative sites with equal or greater benefit to the government.

The USFS would not need to acquire water rights to fulfill the purpose of the requested withdrawal extension.

Records related to the application may be examined by contacting Jeff Cartwright at the above address or by phone number.

For a period until December 1, 2015, all persons who wish to submit comments, suggestions, or objections in connection with the withdrawal extension application may present their views in writing to the BLM State Director at the ADDRESS indicated above.

Comments, including names and street addresses of respondents, will be available for public review during regular business hours. Before including your address, phone number, email address, or other personal identifying information in your comment, you should be aware that your entire comment—including your personal identifying information—may be made publicly available at any time. While you may ask us in your comment to withhold your personal identifying information from public review, we cannot guarantee that we will be able to do so.

Notice is hereby given that an opportunity for a public meeting is afforded in connection with the withdrawal extension application. All interested persons who desire a public meeting for the purpose of being heard on the withdrawal extension application must submit a written request to the BLM State Director at the ADDRESS indicated above by December 1, 2015. Upon determination by the authorized officer that a public meeting will be held, a notice of the time and place will be published in the Federal Register and a newspaper having a general circulation in the vicinity of the land at least 30 days before the scheduled date of the meeting.

The application will be processed in accordance with the regulations set forth in 43 CFR 2310.4.

James M. Fincher,
Chief, Branch of Lands, Minerals and Water Rights, Resource Services.

[FR Doc. 2015-21803 Filed 9-1-15; 8:45 am]

BILLING CODE 3411-15-P